FEDERAL COMMUNICATIONS COMMISSION

47 CFR Part 73

[DA 02-1553 et al.]

Radio Broadcasting Services; Gunnison, CO; Elkhart, KS; Austin, NV; Baker, NV; Battle Mountain, NV; Eureka, NV; Fallon, NV; Cimarron, NM; Red Oak, OK; Channing, TX; Eldorado, TX; Escobares, TX; Matador, TX; Memphis, TX; Milano, TX; Ozona, TX; Rotan, TX; Wellington, TX; Moah, UT; and Salina, UT

AGENCY: Federal Communications Commission.

ACTION: Proposed rule.

SUMMARY: This document proposes 20 new allotments in Gunnison, CO; Elkhart, KS; Austin, NV; Baker, NV; Battle Mountain, NV; Eureka, NV; Fallon, NV; Cimarron, NM; Red Oak, OK; Channing, TX; Eldorado, TX; Escobares, TX; Matador, TX; Memphis, TX; Milano, TX; Ozona, TX; Rotan, TX; Wellington, TX; Moah, UT; and Salina, UT. The Commission requests comments on a petition filed by Sierra Grande Broadcasting proposing the allotment of Channel 263C1 at Elkhart, Kansas, as the community's first local aural transmission service. Channel 263C1 can be allotted to Elkhart in compliance with the Commission's minimum distance separation requirements at city reference coordinates. The coordinates for Channel 263C1 at Elkhart are 37-00-29 North Latitude and 101-53-23 West Longitude. See Supplementary Information, infra.

DATES: Comments must be filed on or before August 26, 2002, and reply comments on or before September 10, 2002.

ADDRESSES: Federal Communications Commission, Washington, DC 20554. In addition to filing comments with the FCC, interested parties should serve the petitioner, his counsel, or consultant, as follows: Mr. Willison H. Gormly, Sierra Grande Broadcasting, P.O. Box 51, Des Moines, New Mexico 88418-0051 (Petitioner for Elkhart, Kansas; Austin, Baker, Battle Mountain, Eureka, and Fallon, Nevada; Cimarron, New Mexicao; Moab and Salina, Utah; and Gunnison, Colorado); Ms. Katherine Pyeatt, 6655 Aintree Circle, Dallas, Texas 75214 (Petitioner for Eldorado and Memphis, Texas); Ms. Linda Crawford, 3500 Maple Ave., #1320, Dallas, Texas 75219 (Petitioner for Channing, Ozona, and Rotan, Texas); Mr. Charles Crawford, 4553 Bordeaux Ave., Dallas, Texas 75205 (Petitioner for Escobares, Texas); Mr. Maurice Salsa, 5615 Evergreen Valley Drive, Kingwood, Texas 77345 (Petitioner for Wellington and Matador, Texas; and Red Oak, Oklahoma); and Mr. David P. Garland, 1110 Hackney Street, Houston, Texas 77023 (Petitioner for Milano, Texas).

FOR FURTHER INFORMATION CONTACT: Sharon P. McDonald, Mass Media Bureau, (202) 418-2180.

SUPPLEMENTARY INFORMATION: This is a synopsis of the Commission's Notice of Proposed Rule Making, MB Docket No. 02-158, MB Docket No. 02-159, MB Docket No. 02-160, and MB Docket No. 02-161, MB Docket No. 02-162, MB Docket No. 02-163, MB Docket No. 02-164, MB Docket No. 02-165, and MB Docket No. 02-166, MB Docket No. 02-167, MB Docket No. 02-168, MB Docket No. 02-169, MB Docket No. 02-170, MB Docket No. 02-171, MB Docket No. 02-172, MB Docket No. 02-173, MB Docket No. 02-174, MB Docket No. 02-175, MB Docket No. 02-176, and MB Docket No. 02-177, adopted August 26, 2002, and released September 10, 2002. The full text of this Commission decision is available for inspection and copying during normal business hours in the FCC Reference Information Center (Room CY-A257), 445 12th Street, SW., Washington, DC. The complete text of this decision may also be purchased from the Commission's copy contractor, Qualex International, Portals II, 445 12th Street SW, Room CY-B402, Washington, DC 20554.

The Commission requests comments on a petition filed by Sierra Grande Broadcasting proposing the allotment of Channel 227C at Austin, Nevada, as the community's first local aural transmission service. Channel 227C can be allotted to Austin in compliance with the Commission's minimum distance separation requirements at city reference coordinates. The coordinates for Channel 227C at Austin are 39-29-36 North Latitude and 117-04-07 West Longitude.

The Commission requests comments on a petition filed by Sierra Grande Broadcasting proposing the allotment of Channel 296C at Baker, Nevada, as the community's first local aural transmission service. Channel 296C can be allotted to Baker in compliance with the Commission's minimum distance separation requirements at city reference coordinates. The coordinates for Channel 296C at Baker are 38-51-12 North Latitude and 114-18-06 West Longitude.

The Commission requests comments on a petition filed by Sierra Grande Broadcasting proposing the allotment of Channel 231C at Battle Mountain, Nevada, as the community's second local FM transmission service. Channel 231C can be allotted to Battle Mountain in compliance with the Commission's minimum distance separation requirements with a site restriction of 8 kilometers (5 miles) west to avoid a short-spacing to the licensed site of Station KLKO(FM), Channel 229C2 at Elko, Nevada. The coordinates for Channel 231C at Battle Mountain are 40-36-39 North Latitude and 117-01-24 West Longitude.

The Commission requests comments on a petition filed by Sierra Grande Broadcasting proposing the allotment of Channel 300C at Eureka, Nevada, as the community's first local aural transmission service. Channel 300C can be allotted to Eureka compliance with the Commission's minimum distance separation requirements at city reference coordinates. The coordinates for Channel 300C at Eureka are 39-40-46 North Latitude and 115-57-35 West Longitude.

The Commission requests comments on a petition filed by Sierra Grande Broadcasting proposing the allotment of Channel 297C at Fallon, Nevada, as the community's fourth local FM transmission service. Channel 297C can be allotted to Fallon in compliance with the Commission's minimum distance separation requirements with a site restriction of 21.25 kilometers (113.2 miles) south east to avoid a short-spacing to the vacant allotment site for Channel 297C at Alturas, California. The coordinates for Channel 297C at Fallon are 39-18-54 North Latitude and 118-38-18 West Longitude.

The Commission requests comments on a petition filed by Sierra Grande Broadcasting proposing the allotment of Channel 236C2 at Cimarron, New Mexico, as the community's first local aural transmission service. Channel 236C2 can be allotted to Cimarron in compliance with the Commission's minimum distance separation requirements with a site restriction of 0.5 kilometers (0.3 miles) south to avoid a short-spacing to the licensed site of Station KRDO-FM, Channel 236C2, Colorado Spring, Colorado. The coordinates for Channel 236C2 at Cimarron are 38-34-24 North Latitude and 109-32-57 West Longitude.

The Commission requests comments on a petition filed by Sierra Grande Broadcasting proposing the allotment of Channel 234C at Moab, Utah, as the community's second local FM transmission service. Channel 246C1 can be allotted to Moab in compliance with the Commission's minimum distance separation requirements at city reference coordinates. The coordinates for Channel 246C1 at Moab are 38-34-24 North Latitude and 109-32-57 West Longitude.

The Commission requests comments on a petition filed by Sierra Grande Broadcasting proposing the allotment of Channel 276C at Salina, Utah, as the community's first local aural transmission service. Channel 276C can be allotted to Salina in compliance with the Commission's minimum distance separation requirements at city reference coordinates. The coordinates for Channel 276C at Salina are 38-57-28 North Latitude and 111-51-33 West Longitude.

The Commission requests comments on a petition filed by Katherine Pyeatt proposing the allotment of Channel 241A at Eldorado, Texas, as potentially the community's fourth local FM transmission service. Channel 241A can be allotted to Eldorado in compliance with the Commission's minimum distance separation requirements with a site restriction of 1.4 kilometers (0.9 miles) southwest to avoid a short-spacing to the licensed site of Station KORQ(FM), Channel 241C2, Winters, Texas.

The Commission requests comments on a petition filed by Linda Crawford proposing the allotment of Channel 284C at Channing, Texas, as the community's first local aural transmission service. Channel 284C can be allotted to Channing in compliance with the Commission's minimum distance separation requirements with a site restriction of 38.0 kilometers (23.6 miles) northwest to avoid short-spacings to the licensed sites of Station KQFX(FM), Channel 282C1, Borger, Texas, and Station KLGD(FM), Channel 285C1, Tulia, Texas. The coordinates for Channel 284C at Channing are 35-58-15 North Latitude and 102-33-43 West Longitude.

The Commission requests comments on a petition filed by Charles Crawford proposing the allotment of Channel 284A at Escobares, Texas, as the community's first local aural transmission service. Channel 284A can be allotted to Escobares in compliance with the Commission's minimum distance separation requirements with a site restriction of 6.8 kilometers (4.2 miles) northeast to avoid a short-spacing to the licensed site of Station XHMF-FM, Channel 283C, Monterrey, Mexico. The coordinates for Channel 284A at Escobares are 26-26-29 North Latitude and 98-54-14 West Longitude. Since Escabares is located within 320 kilometers (199 miles) of the U.S.-Mexico border, concurrence of the Mexican government has been requested.

The Commission requests comments on a petition filed by Linda Crawford proposing the allotment of Channel 275C3 at Ozona, Texas, as the community's third local FM transmission service. Channel 275C3 can be allotted to Ozona in compliance with the Commission's minimum distance separation requirements at city reference coordinates. The coordinates for Channel 275C3 at Ozona are 30-42-30 North Latitude and 101-12-06 West Longitude. Since Ozona is located within 320 kilometers (199 miles) of the U.S.-Mexican border, concurrence of the Mexican government has been requested.

The Commission requests comments on a petition filed by Sierra Grande Broadcasting proposing the allotment of Channel 265C2 at Gunnison, Colorado, as the community's third local FM transmission service. Channel 265C2 can be allotted to Gunnison in compliance with the Commission's minimum distance separation requirements with a site restriction of 11.2 kilometers (7 miles) northwest to avoid shot-spacings to the licensed sites for Station KGFT(FM), Channel 264C, Pueblo, Colorado, and Station KMOZ-FM, Channel 264C1, Grand Junction, Colorado. The coordinates for Channel 265C2 at Gunnison are 38-37-00 North Latitude and 107-01-00 West Longitude.

The Commission requests comments on a petition filed by Linda Crawford proposing the allotment of Channel 290A at Rotan, Texas, as the community's first local aural transmission service. Channel 290A can be allotted to Rotan in compliance with the Commission's minimum distance separation requirements at city reference coordinates. The coordinates for Channel 290A at Rotan are 32-51-07 North Latitude and 100-27-55 West Longitude.

The Commission requests comments on a petition filed by Maurice Salsa proposing the allotment of Channel 248A at Wellington, Texas, as the community's second local commercial FM transmission service. Channel 248A can be allotted to Wellington in compliance with the Commission's minimum distance separation requirements with a site restriction of 14.0 kilometers (8.7 miles) northwest to avoid a short-spacing to the allotment site for Channel 248C1, Archer City, Texas. The coordinates for Channel 248A at Wellington are 34-56-51 North Latitude and 100-19-10 West Longitude.

The Commission requests comments on a petition filed by Maurice Salsa proposing the allotment of Channel 227A at Red Oak, Texas as the community's first local aural transmission service. Channel 227A can be allotted to Red Oak in compliance with the Commission's minimum distance separation requirements with a site restriction of 12.8 kilometers (7.9 miles) south to avoid a short-spacing to the licensed site of Station KKNG-FM, Channel 227C1, New Castle, Oklahoma. The coordinates for Channel 227A at Red Oak are 34-50-34 North Latitude and 95-07-42 WL West Longitude.

The Commission requests comments on a petition filed by Katherine Pyeatt proposing the allotment of Channel 292A at Memphis, Texas, as potentially the community's third local FM transmission service. Channel 292A can be allotted to Memphis in compliance with the Commission's minimum distance separation requirements at city reference coordinates. The coordinates for Channel 292S at Memphis are 34-43-29 North Latitude and 100-32-01 West Longitude.

The Commission requests comments on a petition filed by Maurice Salsa proposing the allotment of Channel 227C3 at Matador, Texas, as the community's first local FM transmission service. Channel 227C3 can be allotted to Matador in compliance with the Commission's minimum distance separation requirements with a site restriction of. The coordinates for Channel 227C3 at Matador are 3-10-06 North Latitude and 100-43-57 West Longitude.

The Commission requests comments on a petition filed by David P. Garland proposing the allotment of Channel 274A at Milano, Texas, as the community's first local aural transmission service. Channel 274A can be allotted to Milano in compliance with the Commission's minimum distance separation requirements with a site restriction of 11.9 kilometers (7.4 miles) southwest to avoid short-spacings to the licensed sites of Station KBRQ(FM), Channel 273C1, Hillsboro, Texas, and Station KTFM(FM), Channel 274C1, San Antonio, Texas. The coordinates for Channel 274A at Milano are 30-38-10 North Latitude and 96-57-10 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Colorado, is amended by adding Channel 265C2 at Gunnison.

3. Section 73.202(b), the Table of FM Allotments under Kansas, is amended by adding Elkhart, Channel 263C1.

4. Section 73.202(b), the Table of FM Allotments under Nevada, is amended by adding Austin, Channel 227C; by adding Baker, Channel 296C, by adding Channel 231C at Battle Mountain; by adding Eureka, Channel 300C; and by adding Channel 297C at Fallon.

5. Section 73.202(b), the Table of FM allotments under New Mexico, is amended by adding Cimarron, Channel 236C2.

6. Section 73.202(b), the Table of FM allotments under Okalahoma, is amended by adding Red Oak, Channel 227A.

7. Section 73.202(b), the Table of FM Allotments under Texas, is amended by adding by adding Channing, Channel 284C; by adding Channel 241A at Eldorado; by adding Escobares, Channel 284A; by adding Matador, Channel 227C3; by adding Channel 292A at Memphis; by adding Milano, Channel 274A; by adding Channel 275C3 at Ozona; and by adding Rotan, Channel 290A.

8. Section 73.202(b), the Table of FM Allotments under Utah, is amended by adding Channel 234C1 at Moab; and by adding Salina, Channel 276C.

Federal Communications Commission.
John A. Karousos,
Assistant Chief, Audio Division, Media Bureau.

[FR Doc. 02-18251 Filed 7-18-02; 8:45 am]

BILLING CODE 6712-01-P